DEPARTMENT OF THE INTERIOR

Fish and Wildlife Service

50 CFR Part 17

[Docket No. FWS-R2-ES-2011-0042; MO 92210-0-0009]

RIN 1018-AV86

Endangered and Threatened Wildlife and Plants; Proposed Endangered Status for the Chupadera Springsnail (Pyrgulopsis chupaderae) and Proposed Designation of Critical Habitat

AGENCY: Fish and Wildlife Service, Interior.

ACTION: Proposed rule; reopening of comment period.

SUMMARY: We, the U.S. Fish and Wildlife Service (Service), announce the reopening of the public comment period on our August 2, 2011, proposed rule to list the Chupadera springsnail (Pyrgulopsis chupaderae) as endangered and designate critical habitat under the Endangered Species Act of 1973, as amended. We are reopening the comment period to allow all interested parties an additional opportunity to comment on the proposed rule and previously completed drafts of the economic analysis and environmental assessment. Comments previously submitted need not be resubmitted, as they will be fully considered in preparation of the final rule.

DATES: We will consider comments received or postmarked on or before May 16, 2012. If you use the Federal eRulemaking Portal to submit your comments (see ADDRESSES), you must submit your comments by 11:59 p.m. Eastern Time on the closing date.

ADDRESSES: Document availability: You may obtain copies of the proposed rule, draft economic analysis, and draft environmental assessment on the Internet at http://www.regulations.gov at Docket Number FWS-R2-ES-2011-0042, or by mail from the New Mexico Ecological Services Field Office (see FOR FURTHER INFORMATION CONTACT).

Comment submission: You may submit written comments by one of the following methods:

(1) Electronically: Go to the Federal eRulemaking Portal: http://www.regulations.gov. Search for Docket No. FWS-R2-ES-2011-0042, which is the docket number for this rulemaking.

(2) By hard copy: Submit by U.S. mail or hand-delivery to: Public Comments Processing, Attn: FWS-R2-ES-2011-0042; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

FOR FURTHER INFORMATION CONTACT: Wally Murphy, Field Supervisor, U.S. Fish and Wildlife Service, New Mexico Ecological Services Field Office, 2105 Osuna NE., Albuquerque, NM 87113; telephone (505-761-4781). Persons who use a telecommunications device for the deaf (TDD) may call the Federal Information Relay Service (FIRS) at (800-877-8339).

SUPPLEMENTARY INFORMATION:

Background

On August 2, 2011 (76 FR 46218), we published a proposed rule to list as endangered and designate critical habitat for the Chupadera springsnail. We proposed to designate approximately 1.9 acres (ac) (0.7 hectares (ha)) in two units located in Socorro County, New Mexico, as critical habitat. That proposal had a 60-day comment period, ending October 3, 2011. We received no requests for a public hearing; therefore, no public hearing will be held. On January 20, 2012 (77 FR 2943), we reopened the public comment period on our August 2, 2011, proposed rule to allow additional public comment on the proposed rule, and we made available, and requested public comments on, the draft economic analysis, draft environmental assessment, and the associated required determinations for the proposed designation of critical habitat. Our January 20, 2012, publication had a 30-day comment period, ending February 21, 2012.

Public Comments

We will accept written comments and information during this reopened comment period on our proposed listing and proposed critical habitat for the Chupadera springsnail that published in the Federal Register on August 2, 2011 (76 FR 46218). We will consider information and recommendations from all interested parties. We intend that any final action resulting from this proposal be as accurate as possible and based on the best available scientific and commercial data.

If you previously submitted comments or information on the proposed rule, please do not resubmit them. We have incorporated them into the public record, and we will fully consider them in the preparation of our final determination. Our final determination concerning this proposed listing and critical habitat will take into consideration all written comments and any additional information we receive.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R2-ES-2011-0042, or by appointment, during normal business hours, at the U.S. Fish and Wildlife Service, New Mexico Ecological Services Field Office (see FOR FURTHER INFORMATION CONTACT). You may obtain copies of the proposed rule on the Internet at http://www.regulations.gov at Docket No. FWS-R2-ES-2011-0042, or by mail from the New Mexico Ecological Services Field Office (see FOR FURTHER INFORMATION CONTACT).

Authority

The authority for this action is the Endangered Species Act of 1973, as amended (16 U.S.C. 1531 et seq.).

Dated: April 20, 2012.
Gregory E. Siekaniec,
Acting Director, U.S. Fish and Wildlife Service.

[FR Doc. 2012-10451 Filed 4-30-12; 8:45 am]

BILLING CODE 4310-55-P